DEPARTMENT OF HOMELAND SECURITY

[Docket No. DHS-2013-0034]

National Infrastructure Advisory Council; Meetings

AGENCY: National Protection and Programs Directorate, DHS.

ACTION: Committee Management; Notice of open Federal Advisory Committee Meetings.

SUMMARY: The National Infrastructure Advisory Council (NIAC) will meet July 17, August 14, and September 17, 2013. The meetings will be open to the public.

DATES: The NIAC will meet at the following dates and times: July 17, 2013, at 3:00 p.m. to 4:30 p.m.; August 14, 2013, at 4:00 p.m. to 5:30 p.m.; and September 17, 2013, at 3:00 p.m. to 4:30 p.m. Please note that the meetings may close early if the committee has completed its business. For additional information, please consult the NIAC Web site, www.dhs.gov/NIAC, or contact the NIAC Secretariat by phone at (703) 235-2888 or by email at NIAC@hq.dhs.gov.

ADDRESSES: National Intellectual Property Rights Coordination Center Auditorium, 2451 Crystal Drive, Suite 150, Arlington, VA 22202.

For information on facilities or services for individuals with disabilities or to request special assistance at the meeting, contact the person listed under FOR FURTHER INFORMATION CONTACT below as soon as possible.

To facilitate public participation, we are inviting public comment on the issues to be considered by the Council as listed in the “Summary” section below. Comments must be submitted in writing no later than 12:00 p.m. one day before each meeting and must be identified by “DHS-2013-0034” and may be submitted by any one of the following methods:

• Federal eRulemaking Portal: www.regulations.gov. Follow the instructions for submitting written comments.

• Email: NIAC@hq.dhs.gov. Include the docket number in the subject line of the message.

• Fax: (703) 603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the NIAC, go to www.regulations.gov.

Members of the public will have an opportunity to provide oral comments after presentations on the topics on the agenda and prior to any Committee discussions. We request that comments be limited to the issues listed in the meeting agenda. Relevant public comments may be submitted in writing or presented in person for the Council to consider. Comments received by Nancy Wong after 12:00 p.m. one day prior to each meeting will still be accepted and reviewed by the members but not necessarily by the time of the meeting. In-person presentations will be limited to three minutes per speaker, with no more than 30 minutes for all speakers. Parties interested in making in-person comments should register no later than 15 minutes prior to the beginning of the meeting at the meeting location.

FOR FURTHER INFORMATION CONTACT: Nancy Wong, National Infrastructure Advisory Council Designated Federal Officer, Department of Homeland Security, telephone (703) 235-2888.

SUPPLEMENTARY INFORMATION: Notice of this meeting is given under the Federal Advisory Committee Act, 5 U.S.C. App. (Pub. L. 92-463). The NIAC shall provide the President through the Secretary of Homeland Security with advice on the security and resilience of the Nation's critical infrastructure sectors and their information systems.

At each meeting, the committee will receive an update and presentation from the Department of Homeland Security on the Implementation Planning for Executive Order 13636 and Presidential Policy Directive 21. Aspects of the Implementation Plan include partnership, information sharing, incentives, risk management, and national plan revision. The committee will discuss, deliberate, and provide recommendations for the Implementation Plan. The presentation for the topic to be discussed will be posted no later than one week prior to the meeting on the Council's public Web page on www.dhs.gov/NIAC.

Meeting Agenda

I. Opening of Meeting

II. Roll Call of Members

III. Introductions

IV. Update and Discussion on Implementation Plan for Executive Order 13636 and Presidential Policy Directive 21 by the Department of Homeland Security

V. Public Comment: Discussion Limited to Meeting Agenda Items

VI. Discussion and Deliberation on Council Recommendations for Implementation Plan for Executive Order 13636 and Presidential Policy Directive 21

VII. Adjournment

Information on Services for Individuals With Disabilities

For information on facilities or services for individuals with disabilities or to request special assistance at the meeting, contact the NIAC Secretariat at (703) 235-2888 as soon as possible.

Dated: June 20, 2013.
Nancy Wong,
Designated Federal Officer for the NIAC.

[FR Doc. 2013-15353 Filed 6-26-13; 8:45 am]

BILLING CODE 9110-9P-P